DEPARTMENT OF JUSTICE

Office of Justice Programs

[OMB Number 1121-NEW]

Bureau of Justice Assistance; Agency Information Collection Activities: Proposed Collection Comments Requested

ACTION: 30-Day Notice of Information Collection Under Review: New Collection Bureau of Justice Assistance Application Form: Federal Law Enforcement Officers Congressional Badge of Bravery.

The Department of Justice (DOJ), Office of Justice Programs (OJP) will be submitting the following information collection request to the Office of Management and Budget (OMB) for review and approval in accordance with the Paperwork Reduction Act of 1995. The proposed collection information is published to obtain comments from the public and affected agencies. This proposed information collection was previously published in the Federal Register [Volume 75, Number 72, page 19659, on April 15, 2010,] allowing for a 60 day comment period.

The purpose of this notice is to allow for an additional 30 days for public comment until July 14, 2010. This process is conducted in accordance with 5 CFR 1320.10.

Written comments and/or suggestions regarding the items contained in this notice, especially the estimated public burden and associated response time, should be directed to the Office of Management and Budget, Office of Information and Regulatory Affairs, Attention Department of Justice Desk Officer, Washington, DC 20503. Additional comments, suggestions, or need a copy of the proposed information collection instrument with instructions or additional information, please contact M. Berry at 202-616-6500/1-866-268-0079, Bureau of Justice Assistance, Office of Justice Programs, U. S. Department of Justice, 810 7th Street, NW., Washington, DC 20531 via facsimile at 202-305-1367 or by e-mail at M.A.Berry@ojp.usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Federal Law Enforcement Officers Congressional Badge of Bravery.

(3) Agency form number, if any, and the applicable component of the Department of Justice sponsoring the collection: None.

(4) Affected public who will be asked or required to respond, as well as a brief abstract:

Primary: Law enforcement officials.

Abstract: The information collected on this application will provide for the nomination of law enforcement officers for the Federal, and the State and Local Congressional Badge of Bravery awards. The awards will recognize law enforcement officers who (1) were injured while engaged in lawful duties and performing an act of bravery that put such officer at personal risk; or (2) though not injured; performed an act of bravery that placed such officer at risk of serious physical injury or death.

Others: None.

(5) An estimate of the total number of respondents and the amount of time needed for an average respondent to respond is as follows: An estimate 200 applications/nominations for each Board has been adopted from a similar awards program and will be used for the Federal Law Enforcement Officers Congressional Badge of Bravery. The applicant should take approximately 25 minutes to gather the required information and complete the form. Actual preparation time is dependent on the number of nominees per application.

(6) An estimate of the total public burden (in hours) associated with the collection is 83 hours. Total Annual Reporting Burden: 200 × 25 minutes = 5,000 minutes/60 = 83.33 hours for each award category.

If additional information is required, please contact, Clearance Officer, United States Department of Justice, Justice Management Division, Policy and Planning Staff, Patrick Henry Building, Suite 1600, 601 D Street, NW., Washington, DC 20530.

Dated: June 8, 2010.
Lynn Bryant,
Department Clearance Officer, United States Department of Justice.

[FR Doc. 2010-14119 Filed 6-11-10; 8:45 am]

BILLING CODE 4410-18-P